DEPARTMENT OF TRANSPORTATION

Federal Railroad Administration

Notice of Request for an Extension of a Waiver of Compliance

In accordance with Part 211 of Title 49 Code of Federal Regulations (CFR), notice is hereby given that the Federal Railroad Administration (FRA) has received a request for an extension of a waiver of compliance from certain requirements of its safety standards. The individual petition is described below, including the party seeking relief, the regulatory provisions involved, the nature of the relief being requested, and the petitioner's arguments in favor of relief.

Union Pacific Railroad Company

[Docket Number FRA-2007-27322)

Pursuant to 49 CFR 211.41 and 211.51, by letter dated November 13, 2007, FRA authorized the Union Pacific Railroad Company (UP) to conduct field testing of its processor-based train control system identified as the Vital-Train Management System (V-TMS). In the same letter, FRA provided UP temporary conditional relief from certain provisions of 49 CFR Parts 216, 217, 218, 229, 233, 235, 236, and 240 related to the field testing. By letter dated August 3, 2009, UP has requested that FRA extend the regulatory relief granted in order to continue field testing of its V-TMS system until December 31, 2015, or until such time as the relief is superseded by an FRA approved Positive Train Control Implementation Plan (PTCIP) and any other filings required in accordance with final regulations implementing § 104 of the Rail Safety Improvement Act of 2008 (codified at 49 U.S.C. 20157).

A request for an informational filing extension, as required under 49 CFR Part 236, subpart H, has also been prepared and submitted in conjunction with this waiver extension request and can be found in the same docket (FRA-2007-27322) as this waiver extension request. UP has an approved Railroad Safety Program Plan as provided for 49 CFR 236.905 (Docket Number FRA-2006-24002).

Although FRA is not soliciting public comment on the waiver extension request, interested parties are invited to review the request and associated documents at the following locations:

• Web site: http://www.regulations.gov. Follow the online instructions for a simple search on the DOT electronic docket site (Docket Number FRA-2007-27322). All documents in the public docket that are associated with the waiver request are available on the web site for inspection and copying.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC on October 19, 2009.
Grady C. Cothen, Jr.,
Deputy Associate Administrator for Safety Standards and Program Development.

[FR Doc. E9-25818 Filed 10-26-09; 8:45 am]

BILLING CODE 4910-06-P